BROADCASTING BOARD OF GOVERNORS

Sunshine Act Meeting Notice

DATE AND TIME: Thursday, March 8, 2012, 3:15 p.m.

PLACE: Middle East Broadcasting Networks, Suite D, 7600 Boston Blvd., Springfield, VA 22153.

SUBJECT: Notice of Meeting of the Broadcasting Board of Governors.

SUMMARY: The Broadcasting Board of Governors (BBG) will be meeting at the time and location listed above. At the meeting, the BBG will consider a resolution to award and present David Burke Distinguished Journalism Awards, three resolutions honoring employees for their service, a resolution honoring the 10th anniversary of Radio Sawa, and a resolution for 2012 policy statements on sexual harassment and equal employment opportunity. The BBG will receive and consider a report from the Governance Committee regarding Board leadership, Board operating procedures, and the status of BBG-sponsored grantees consolidation and future structure for U.S. international broadcasting. The BBG will recognize the anniversaries of Agency language services and receive a budget update and an update on the Commission on Innovation. The BBG will receive reports from the International Broadcasting Bureau Director, the Communications and External Affairs Director, the VOA Director, the Office of Cuba Broadcasting Director, and the Presidents of Radio Free Europe/Radio Liberty, Radio Free Asia, and the Middle East Broadcasting Networks. The meeting is open to public observation via streamed webcast, both live and on-demand, on the BBG's public Web site at www.bbg.gov.

Contact Person for More Information: Persons interested in obtaining more information should contact Paul Kollmer-Dorsey at (202) 203-4545.

Paul Kollmer-Dorsey,
Deputy General Counsel.

[FR Doc. 2012-5417 Filed 3-1-12; 4:15 pm]

BILLING CODE 8610-01-P